DEPARTMENT OF COMMERCE

National Oceanic and Atmospheric Administration

[I.D. 112102A]

Marine Mammals: Draft Environmental Assessment of Issuing a Bowhead Whale Subsistence Quota to the Alaska Eskimo Whaling Commission for the Years 2003 through 2007

AGENCY: National Marine Fisheries Service (NMFS), National Oceanic and Atmospheric Administration (NOAA), Commerce.

ACTION: Notice of availability of a Draft Environmental Assessment(EA); request for written comments.

SUMMARY: NMFS announces the availability of a Draft EA, in accordance with the National Environmental Policy Act(NEPA), to assess the impacts of issuing a subsistence quota for bowhead whales to the Alaska Eskimo Whaling Commission (AEWC) for the years 2003 through 2007. The Draft EA considers four alternatives regarding the issuance of a quota to the AEWC, and NMFS has identified a preferred alternative. NMFS is soliciting comments and information to facilitate this analysis.

DATES: Comments and information must be postmarked by January 8, 2003.

ADDRESSES: Written comments should be sent to Chief, Marine Mammal Division (F/PR2), Office of Protected Resources, National Marine Fisheries Service, 13th Floor, 1315 East-West Hwy, Silver Spring, MD 20910. Please mark the outside of the envelope with “Comments on Bowhead Whale Analysis.” Comments will not be accepted if submitted via e-mail or Internet. Copies of the EA may be obtained over the internet at the Office of Protected Resources Marine Mammal website under “Quick Information Links” at http://www.nmfs.noaa.gov/prot_res/overview/mm.html. The link is titled “Bowhead Whale Draft Environmental Assessment”.

FOR FURTHER INFORMATION CONTACT: Chris Yates or Winnie Chan, NMFS Office of Protected Resources, 301-713-2322.

SUPPLEMENTARY INFORMATION: At the 5th Special Meeting of the International Whaling Commission (IWC) held in October, 2002 the Commission approved a 5-year aboriginal subsistence quota for the take of Western arctic bowhead whales. The quota allows for a combined total of up to 280 whales to be landed in the years 2003 through 2007 by Alaskan Eskimos and Russian natives. For each of these years, the number of bowhead whales struck shall not exceed 67, except that any unused portion of a strike quota from any year shall be carried forward and added to the strike quota of any subsequent year, provided that no more than 15 strikes shall be added to the strike quota for any one year.

The basis for the quota was a joint request by the Russian Federation and the United States, showing that the needs of both countries' Native groups could be met with an annual average of 56 landed bowhead whales (or a total of 255 for the Alaska Eskimos and 25 for the Chukotka people over the 5-year period). The annual strike limits and quotas for whales are determined at the beginning of each year after consultation with the Russian government.

At the 54th annual meeting of the IWC, held in May, 2002 the Scientific Committee reiterated its previous advice for the Bering-Chukchi-Beaufort Seas stock of bowhead whales, i.e., that it is very likely that a catch limit of 102 whales or less would be consistent with the requirements of the Schedule.

The International Convention for the Regulation of Whaling, under which the IWC operates, is implemented domestically through the Whaling Convention Act (WCA). Under the WCA, NMFS proposes to issue a share of the IWC bowhead quota to the AEWC.

Alaska Eskimos have been taking bowhead whales for at least 2,000 years. Alaska Native subsistence hunters take less than one percent of the population of bowhead whales per year. Since 1977, the number of takes has ranged between 14 and 75 per year, depending in part on changes in management strategy and in part on higher estimates of bowhead whale abundance in recent years (NMFS Alaska Marine Mammal Stock Assessments, 2001).

The National Environmental Policy Act (NEPA) requires that Federal agencies conduct an environmental analysis of the effect of their proposed actions on the environment. While quotas under the WCA are issued on an annual basis, NMFS is evaluating the effects of issuing them over a 5-year period. Accordingly, NMFS prepared a draft EA that evaluated the following four alternatives:

Alternative 1 - Grant the AEWC a quota of 255 landed bowhead whales over 5 years (2003 through 2007), with an annual strike quota of 67 bowhead whales per year, where no unused strikes are added to the strike quota for any one year.

Alternative 2 - Grant the AEWC a quota of 255 landed bowhead whales over 5 years (2003 through 2007), with an annual strike quota of 67 bowhead whales per year, where no more than 15 unused strikes are added to the strike quota for any one year.

Alternative 3 - Grant the AEWC a quota of 255 landed bowhead whales over 5 years (2003 through 2007), with an annual strike quota of 67 bowhead whales per year, where, for unused strikes, up to 50 percent of the annual strike limit is added to the strike quota for any one year.

Alternative 4 (No Action) - Do not grant the AEWC a quota.

NMFS has selected Alternative 2 as the preferred alternative.

The Draft EA was prepared in accordance with NEPA and implementing regulations at 40 CFR parts 1500 through 1508 and NOAA guidelines concerning implementation of NEPA found in NOAA Administrative Order 216-6.

Information Solicited

To ensure that NMFS' review is comprehensive and based on the best available information, NMFS is soliciting information and comments from any interested party concerning issuing a bowhead whale quota to the AEWC of 255 landed whales over 5 years (2003 through 2007). NMFS is particularly interested in information on the affected environment or environmental consequences of issuing a quota. NMFS requests that data, information, and comments be accompanied by (1) supporting documentation, and (2) the name, address, and affiliation of person submitting data. Written comments should be sent to Chief of the Marine Mammal Division within NMFS' Office of Protected Resources (see ADDRESSES).

Dated: December 3, 2002.
Laurie K. Allen,
Acting Deputy Director, Office of Protected Resources, National Marine Fisheries Service.

[FR Doc. 02-31027 Filed 12-6-02; 8:45 am]

BILLING CODE 3510-22-S